DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been removed from OFAC's Specially Designated Nationals and Blocked Persons List (SDN List). Their property and interests in property are no longer blocked, and U.S. persons are no longer generally prohibited from engaging in transactions with them. OFAC is also removing the name of two vessels that had been identified as blocked property.

DATES: See SUPPLEMENTARY INFORMATION section for applicable date(s).

FOR FURTHER INFORMATION CONTACT:

OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On June 2, 2020 and June 18, 2020, OFAC determined that the persons listed below met one or more of the criteria under Executive Order 13850, “Blocking Property of Additional Persons Contributing to the Situation in Venezuela,” 83 FR 55243 (E.O. 13850), as amended by Executive Order 13857 of January 25, 2019, “Taking Additional Steps to Address the National Emergency with Respect to Venezuela,” 84 FR 509 (E.O. 13857). Also on June 2, 2020 and June 18, 2020, OFAC identified the four vessels listed below as blocked property pursuant to E.O. 13850. On July 02, 2020, OFAC determined that circumstances no longer warrant the inclusion of the following entities and their property on the SDN List under this authority. These entities and vessels are no longer subject to the blocking provisions of Section 1(a) of E.O. 13850.

Entities

1. SANIBEL SHIPTRADE LTD, Trust Company Complex, Ajeltake Road, Ajeltake Island, Majuro, MH 96960, Marshall Islands; Identification Number IMO 4124196 [VENEZUELA-EO13850].

2. ROMINA MARITIME CO INC, 5th Floor, 99, Akti Miaouli, 185 38, Piraeus, Greece; Identification Number IMO 5967632 [VENEZUELA-EO13850].

3. DELOS VOYAGER SHIPPING LTD, Trust Company Complex, Ajeltake Road, Ajeltake Island, Majuro, Marshall Islands; Identification Number IMO 6019130 [VENEZUELA-EO13850].

4. ADAMANT MARITIME LTD, Trust Company Complex, Ajeltake Road, Ajeltake Island, Majuro, MH 96960, Marshall Islands; Identification Number IMO 5869890 [VENEZUELA-EO13850].

Vessels

1. VOYAGER I Crude Oil Tanker Marshall Islands flag; Vessel Registration Identification IMO 9233789 (vessel) [VENEZUELA-EO13850] (Linked To: SANIBEL SHIPTRADE LTD).

2. EUROFORCE Crude Oil Tanker Liberia flag; Vessel Registration Identification IMO 9251585 (vessel) [VENEZUELA-EO13850] (Linked To: ROMINA MARITIME CO INC).

3. DELOS VOYAGER Crude Oil Tanker Panama flag; Vessel Registration Identification IMO 9273052 (vessel) [VENEZUELA-EO13850] (Linked To: DELOS VOYAGER SHIPPING LTD).

4. SEAHERO Crude Oil Tanker Bahamas flag; Vessel Registration Identification IMO 9315642 (vessel) [VENEZUELA-EO13850] (Linked To: ADAMANT MARITIME LTD).

Dated: July 2, 2020.
Andrea M. Gacki
Director, Office of Foreign Assets Control, U.S. Department of the Treasury.

[FR Doc. 2020-14660 Filed 7-7-20; 8:45 am]

BILLING CODE 4810-AL-P